NATIONAL ARCHIVES AND RECORDS ADMINISTRATION

[NARA-2014-040]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 24, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Secretary of Defense (DAA-0330-2014-0008, 3 items, 3 temporary items). Master files of an electronic information system containing recruitment data.

2. Department of Defense, Office of the Secretary of Defense (DAA-0330-2014-0009, 1 item, 1 temporary item). Master files of an electronic information system containing survey data used for recruitment purposes.

3. Department of Defense, Defense Security Service (DAA-0446-2013-0004, 2 items, 2 temporary items). Agency Web site content and management records including site maps, usage logs, and design files.

4. Department of Defense, National Security Agency (N1-457-14-3, 1 item, 1 temporary item). System monitoring, testing, and evaluation data used for compilation of formal reports.

5. Department of Health and Human Services, Office of the Inspector General (DAA-0468-2013-0011, 6 items, 5 temporary items). Records including litigation case files, subpoenas, and legal opinions. Proposed for permanent retention are significant legal case files.

6. Department of Homeland Security, Agency-wide (DAA-0563-2013-0006, 5 items, 4 temporary items). Records of inter- and intra-agency agreements, including background and administrative files. Proposed for permanent retention are international agreements.

7. Department of Homeland Security, U.S. Citizenship and Immigration Services (DAA-0566-2014-0001, 2 items, 2 temporary items). Physician applications for approval to perform immigration related medical examinations.

8. Department of Justice, Agency-wide (DAA-0060-2014-0002, 1 item, 1 temporary item). Determinations of technology patents and rights developed as part of Departmental business.

9. Department of Justice, Civil Division (DAA-0060-2012-0020, 3 items, 1 temporary item). Administrative files for victim compensation claims related to September 11, 2001. Proposed for permanent retention are the master file for the claims management system, and background and policy files.

10. Department of the Treasury, Internal Revenue Service (DAA-0058-2012-0005, 26 items, 20 temporary items). Records of the Office of the Chief Counsel documenting administrative and legal tax assistance activities, including correspondence, case files, and related materials. Proposed for permanent retention are notices, orders, published guidance, and legislative proposals.

11. Executive Office of the President, Office of Science and Technology Policy (N1-359-11-1, 14 items, 5 temporary items). Records include routine administrative and personnel files. Proposed for permanent retention are files of senior level officials including correspondence, calendars, and subject files; continuity devolution plans; delegation of authority files; and briefing materials.

12. Federal Housing Finance Agency, Supervision and Housing Mission (DAA-0543-2014-0001, 2 items, 1 temporary item). Records of the examination and evaluation activities including research notes and meeting minutes. Proposed for permanent retention are final reports.

13. Library of Congress, Agency-wide (DAA-0297-2014-0014, 1 item, 1 temporary item). Congressional correspondence files and related materials.

14. National Archives and Records Administration, Research Services (N2-220-13-1, 1 item, 1 temporary item). Records of the National Indian Gaming Commission including audit reports and financial statements. These records were accessioned to the National Archives but lack sufficient historical value to warrant continued preservation.

15. Nuclear Regulatory Commission, Office of Nuclear Security and Incident Response (N1-431-08-20, 8 items, 7 temporary items). Records relating to the reporting of events at nuclear facilities including call logs, call lists and working copies of documents used for reference purposes. Proposed for permanent retention are master files of an electronic information system used for tracking incidents at licensed nuclear facilities.

16. Nuclear Waste Technical Review Board, Agency-wide (DAA-0220-2014-0013, 2 items, 2 temporary items). Agency Web site content and management records including site maps, usage logs, and design files.

17. Reconstruction Finance Corporation, Federal Loan Agency (N1-234-12-1, 15 items, 7 temporary items). Records include administrative files, audit reports and surveys, remittance transmittals, abstracts, and appraisals. Proposed for permanent retention are bank liquidation records, mortgage and loan files, and Florida Emergency Pipeline records.

18. Reconstruction Finance Corporation, Various Corporations (N1-234-12-4, 8 items, 7 temporary items). Records include loan files, litigation records, payment applications, profit determinations, and real estate files. Proposed for permanent retention are program history files documenting land grant activities.

Dated: June 18, 2014.
Paul M. Wester, Jr.,
Chief Records Officer for the U.S. Government.

[FR Doc. 2014-14630 Filed 6-23-14; 8:45 am]

BILLING CODE 7515-01-P